DEPARTMENT OF HOMELAND SECURITY

[Docket No. DHS-2012-0016]

President's National Security Telecommunications Advisory Committee; Correction

AGENCY: National Protection and Programs Directorate, DHS.

ACTION: Committee Management; Notice of Partially Closed Federal Advisory Committee Meeting; correction.

SUMMARY: The Department of Homeland Security published a document in the Federal Register of April 25, 2012, concerning the President's National Security Telecommunications Advisory Committee (NSTAC) meeting. The document contained incorrect information regarding the time and status of the meeting sessions.

FOR FURTHER INFORMATION CONTACT: Helen Jackson, 703-235-4957.

Correction

In the Federal Register of April 25, 2012, in FR Doc 2012-9979, on page 24728, in the third column, correct the “Dates” caption to read:

DATES: The NSTAC will meet in a closed session on Tuesday, May 15, 2012, from 9 a.m. to 12 p.m. and in an open session on Tuesday, May 15, 2012, from 1:45 p.m. to 5:10 p.m.

Additionally, on page 24729, in the second column, correct the first complete sentence to read: “Additionally, the NSTAC will receive a briefing on the Government's current initiatives with respect to the National Public Safety Broadband Network.”

Dated: April 26, 2012.
Arnella Terrell,
Federal Register Certification Official.

[FR Doc. 2012-10510 Filed 5-1-12; 8:45 am]

BILLING CODE P